Title 3—

The President

Proclamation 10895 of February 10, 2025

Adjusting Imports of Aluminum Into the United States

By the President of the United States of America

A Proclamation

1. On January 19, 2018, the Secretary of Commerce (Secretary) transmitted to me a report on his investigation into the effect of imports of aluminum on the national security of the United States under section 232 of the Trade Expansion Act of 1962, as amended (19 U.S.C. 1862) (section 232). The Secretary found and advised me of the Secretary's opinion that aluminum is being imported into the United States in such quantities and under such circumstances as to threaten to impair the national security of the United States.

2. In Proclamation 9704 of March 8, 2018 (Adjusting Imports of Aluminum Into the United States), I concurred in the Secretary's finding that aluminum was being imported into the United States in such quantities and under such circumstances as to threaten to impair the national security of the United States, and decided to adjust the imports of aluminum articles by imposing a 10 percent ad valorem tariff on such articles imported from most countries. Proclamation 9704 further stated that any country with which the United States has a security relationship is welcome to discuss alternative ways to address the threatened impairment of the national security caused by imports from that country, and noted that, should the United States and any such country arrive at a satisfactory alternative means to address the threat to the national security such that I determine that imports from that country no longer threaten to impair the national security, I may remove or modify the restriction on aluminum articles imports from that country and, if necessary, adjust the tariff as it applies to other countries, as the national security interests of the United States require.

3. In Proclamation 9704, I also directed the Secretary to monitor imports of aluminum articles and inform me of any circumstances that in the Secretary's opinion might indicate the need for further action under section 232 with respect to such imports. Pursuant to Proclamation 9704, the Secretary was authorized to provide relief from the additional duties, based on a request from a directly affected party located in the United States, for any aluminum article determined not to be produced in the United States in a sufficient and reasonably available amount or of a satisfactory quality, or based upon specific national security considerations. Proclamation 9776 of August 29, 2018, and Proclamation 9980 of January 24, 2020, similarly authorized the Secretary to provide relief from certain tariffs on other aluminum products and derivatives set forth in those proclamations.

4. In subsequent proclamations, the President adjusted the tariffs applicable to aluminum articles imports from Argentina, Australia, Canada, Mexico, the European Union (EU), and the United Kingdom (UK), after engaging in discussions with each of those parties on alternative ways to address the threat to the national security from such imports.

5. The Secretary has informed me that, notwithstanding the 10 percent ad valorem tariff imposed by Proclamation 9704 that mitigated the threatened impairment of our national security, aluminum imports into the United States have continued at unacceptable levels as the global aluminum excess capacity crisis continues. In addition, the exclusion of certain countries and products from the tariff and efforts by foreign producers to circumvent the tariff have undermined the purpose of Proclamation 9704, which was to adjust the level of imports of aluminum to remove the threatened impairment of the national security. This has again resulted in aluminum smelter capacity utilization rates in the domestic aluminum industry that are well below the target level recommended in the Secretary's January 19, 2018, report. This indicates that the initial tariff of 10 percent ad valorem is not high enough to address the threatened impairment to our national security posed by aluminum imports.

6. In particular, the Secretary has informed me that global primary aluminum capacity has continued to increase, fueled by expansions in the People's Republic of China (China) and South America, which is seen in rising aluminum imports that continue to weigh on the price domestic aluminum producers may charge. There has also been a significant increase in Chinese investment in Mexico, driven by massive Chinese government subsidies and the continued ability to exploit loopholes in U.S. trade policy.

7. Domestic aluminum producers have been forced to idle additional production and shut down facilities. Two primary aluminum smelters within the United States have closed since Proclamation 9704 was promulgated. In addition, U.S. primary aluminum production decreased by 30 percent from 2020 to 2024, and U.S. smelter capacity utilization was only 52 percent in 2024. Overcapacity for primary aluminum has harmed downstream aluminum producers, including producers of aluminum extrusions and aluminum sheet. To allow U.S. aluminum producers to restart production and to incentivize new capacity, additional adjustments to section 232 tariffs on aluminum need to be made, including limiting exemptions and increasing the tariff rate.

8. The Secretary has informed me that imports of aluminum articles from countries that are excluded from the tariff regime or have alternative arrangements have remained significantly elevated at levels that once again threaten to impair the national security of the United States. The volume of U.S. imports of aluminum articles from Argentina, Australia, Canada, Mexico, EU countries, and the UK in 2024 was approximately 14 percent higher than the average volume of such imports in 2015 through 2017. In particular, the volume of U.S. imports of primary aluminum from Canada in 2024 was approximately 18 percent higher than the average volume for 2015 through 2017. Notwithstanding Proclamation 10782 of July 10, 2024, which imposed higher tariffs on certain aluminum imports from Mexico, imports of aluminum from Mexico have continued to surge beyond historical volumes. The volume of U.S. imports of aluminum articles from Mexico in 2024 was approximately 35 percent higher than the average volume for 2015 through 2017. Proclamation 10782 did not resolve the surge of imports of aluminum from Mexico. Mexican producers are using unfair trade to gain market share in the United States and are leveraging their access to unfairly traded global primary aluminum to do so. I understand that Mexican producers are commingling primary aluminum from China and the Russian Federation (Russia) with primary aluminum from other countries to produce downstream aluminum articles. These practices are distortive and provide continued outlets to absorb the massive amount of global excess capacity and must be remedied. The volume of U.S. imports of primary aluminum from Australia has also surged and in 2024 was approximately 103 percent higher than the average volume for 2015 through 2017. Australia has disregarded its verbal commitment to voluntarily restrain its aluminum exports to a reasonable level.

9. These volume increases occurred even though demand for aluminum in the United States and Canada (the market measured by industry) has generally remained flat, averaging about 20 percent since 2018.

10. These increasing import volumes support the conclusion that aluminum producers in countries subject to the additional ad valorem tariff proclaimed in Proclamation 9704 are engaging in transshipment or further processing of upstream aluminum products in countries that have since been exempted from that tariff. Foreign producers have shifted assembly or manufacturing operations to third countries, such as Mexico. For example, Chinese producers are using Mexico's general exclusion from the tariff to funnel Chinese aluminum to the United States through Mexico while avoiding the tariff.

11. The Secretary has informed me that producers in countries that remain subject to the ad valorem tariff have continued to evade the tariff by processing covered aluminum articles into additional downstream derivative products that were not included in the additional ad valorem tariffs proclaimed in Proclamation 9704 and Proclamation 9980. Foreign producers are continuing to expand downstream production to absorb the global excess capacity. Imports of additional derivative aluminum products have increased significantly since the issuance of Proclamation 9704 and Proclamation 9980, eroding the domestic industry's customer base and resulting in depressed demand for aluminum articles produced in the United States.

12. The Secretary has also informed me of the impact of the product exclusion process authorized by Proclamation 9704, Proclamation 9776, and Proclamation 9980 and implemented by subsequent regulations. This process has resulted in exclusions for a significant volume of imports, in a manner that undermines the purpose of the section 232 measures and threatens to impair the national security of the United States. Certain general approved exclusions remain in effect for entire tariff lines of aluminum imports, notwithstanding the domestic industry's potential to produce many excluded products.

13. I determine that these developments and modifications to the original tariff regime as proclaimed in Proclamation 9704 have undermined the regime's national security objectives by preventing the domestic aluminum industry (including derivatives) from achieving sustained production capacity utilization of at least 80 percent, as determined in the Secretary's January 19, 2018, report. I also determine that the modifications failed to achieve their articulated objectives. As a result, I determine that these modifications have resulted in significantly increasing imports of aluminum articles that once again threaten to impair the national security of the United States.

14. In light of the Secretary's findings, I have determined that it is necessary and appropriate to adjust the tariff proclaimed by Proclamation 9704, as amended, and the tariff proclaimed by Proclamation 9980, as amended, to increase the tariff rate from 10 percent ad valorem to 25 percent ad valorem. These actions are necessary and appropriate to remove the threatened impairment of the national security of the United States.

15. In light of the Secretary's findings regarding the alternative agreements with Argentina proclaimed in Proclamation 9758 of May 31, 2018; Australia proclaimed in Proclamation 9758; Canada proclaimed in Proclamation 9893 of May 19, 2019, and Proclamation 10106 of October 27, 2020; Mexico proclaimed in Proclamation 9893 and Proclamation 10782 of July 10, 2024; the European Union proclaimed in Proclamation 10327 of December 27, 2021, and Proclamation 10690 of December 28, 2023; and the United Kingdom proclaimed in Proclamation 10405 of May 31, 2022, I have decided that it is necessary to terminate these agreements as of March 12, 2025. As of March 12, 2025, all imports of aluminum articles and derivative aluminum articles from Argentina, Australia, Canada, Mexico, EU countries, and the UK shall be subject to the additional ad valorem tariff proclaimed in Proclamation 9704, as amended, with respect to aluminum articles and Proclamation 9980, as amended, with respect to derivative aluminum articles. Imports of aluminum articles and derivative aluminum articles from Argentina, Australia, Canada, Mexico, EU countries, and the UK shall be subject to the revised tariff rate of 25 percent ad valorem established in clause 2 of this proclamation, commensurate with the tariff rate imposed on such articles imported from most other countries. In my judgment, these modifications are necessary to address the significantly increasing imports of aluminum articles and derivative aluminum articles from these sources, which threaten to impair the national security of the United States. Replacing the alternative agreements with the additional ad valorem tariffs will be a more robust and effective means of ensuring that the objectives articulated in the Secretary's January 19, 2018, report and subsequent proclamations are achieved.

16. In light of the information provided by the Secretary that the significant increase of imports of certain derivative aluminum articles has depressed demand for aluminum articles produced by domestic aluminum producers, I have determined that it is necessary to adjust the tariff proclaimed in Proclamation 9704 and Proclamation 9980 to apply to additional derivative aluminum articles.

17. I have also determined that it is necessary to terminate the product exclusion process as authorized in clause 3 of Proclamation 9704, clause 1 of Proclamation 9776, and clause 2 of Proclamation 9980.

18. Section 232, as amended, authorizes the President to take action to adjust the imports of an article and its derivatives that are being imported into the United States in such quantities or under such circumstances as to threaten to impair the national security of the United States.

19. Section 604 of the Trade Act of 1974, as amended, authorizes the President to embody in the Harmonized Tariff Schedule of the United States (HTSUS) the substance of statutes affecting import treatment, and actions thereunder, including the removal, modification, continuance, or imposition of any rate of duty or other import restriction.

NOW, THEREFORE, I, DONALD J. TRUMP, President of the United States of America, by the authority vested in me by the Constitution and the laws of the United States of America, including section 301 of title 3, United States Code, section 604 of the Trade Act of 1974, as amended, and section 232, do hereby proclaim as follows:

(1) The provisions of Proclamation 9758 with respect to imports of aluminum articles from the Argentina; Proclamation 9758 with respect to imports of aluminum articles from the Australia; Proclamation 9893 and Proclamation 10106 with respect to imports of aluminum articles from Canada; Proclamation 9893 and Proclamation 10782 with respect to imports of aluminum articles and derivative aluminum articles from Mexico; Proclamation 10327 and Proclamation 10690 with respect to imports of aluminum articles and derivative aluminum articles from the European Union; and Proclamation 10405 with respect to imports of aluminum articles and derivative aluminum articles from the United Kingdom shall be ineffective as of 12:01 a.m. eastern time on March 12, 2025. The provisions of clause 1 of Proclamation 9980 as applicable to imports of derivative aluminum articles from Argentina, Australia, Canada, and Mexico shall be ineffective as of 12:01 a.m. eastern time on March 12, 2025; all imports of aluminum articles and derivative aluminum articles from these countries shall be subject to the additional ad valorem tariffs proclaimed in Proclamation 9704, as amended, and Proclamation 9980, as amended. Imports of aluminum articles and derivative aluminum articles from Argentina, Australia, Canada, Mexico, EU countries, and the United Kingdom will be subject to the revised tariff rate of 25 percent ad valorem established in clauses (2) and (3) of this proclamation, commensurate with the tariff rate imposed on such articles imported from most countries, as amended by this proclamation.

(2) As of 12:01 a.m. on March 12, 2025, the tariff proclaimed by Proclamation 9704, as amended, and the tariff proclaimed by Proclamation 9980, as amended, are adjusted to increase the respective tariff rates from an additional 10 percent ad valorem to an additional 25 percent ad valorem.

(3) Clause 2 of Proclamation 9704, as amended, is further amended in the second sentence by deleting “and” before “(k)”; replacing “11:59 p.m. eastern standard time on December 31, 2025” after (k) with “12:01 a.m. eastern time on March 12, 2025”; and inserting before the period at the end: “, and (l) on or after 12:01 a.m. on March 12, 2025, at a revised rate of an additional 25 percent ad valorem rate, from all countries except from Russia.”

(4) The first two sentences of clause 1 of Proclamation 9980 are revised to read as follows:

“In order to establish increases in the duty rate on imports of certain derivative articles, subchapter III of chapter 99 of the HTSUS is modified as provided in Annex I and Annex II to this proclamation. Except as otherwise provided in this proclamation, all imports of derivative aluminum articles specified in Annex I to this proclamation shall be subject to an additional 10 percent ad valorem rate of duty, and all imports of derivative steel articles specified in Annex II to this proclamation shall be subject to an additional 25 percent ad valorem rate of duty, with respect to goods entered for consumption, or withdrawn from warehouse for consumption, as follows: (i) on or after 12:01 a.m. eastern time on February 8, 2020, these rates of duty, which are in addition to any other duties, fees, exactions, and charges applicable to such imported derivative aluminum articles or steel articles, shall apply to imports of derivative aluminum articles described in Annex I to this proclamation from all countries except Argentina, Australia, Canada, and the Mexico, and to imports of derivative steel articles described in Annex II to this proclamation from all countries except Argentina, Australia, Brazil, Canada, Mexico, and South Korea; (ii) on or after 12:01 a.m. eastern time on January 1, 2022, these rates of duty, which are in addition to any other duties, fees, exactions, and charges applicable to such imported derivative aluminum articles or steel articles, shall apply to imports of derivative aluminum articles described in Annex I to this proclamation from all countries except Argentina, Australia, Canada, the member countries of the European Union, and Mexico, and to imports of derivative steel articles described in Annex II to this proclamation from all countries except Argentina, Australia, Brazil, Canada, the member countries of the European Union, Mexico, and South Korea; (iii) on or after 12:01 a.m. eastern time on April 1, 2022, these rates of duty, which are in addition to any other duties, fees, exactions, and charges applicable to such imported derivative aluminum articles or steel articles, shall apply to imports of derivative aluminum articles described in Annex I to this proclamation from all countries except Argentina, Australia, Canada, the member countries of the European Union, and Mexico, and to imports of derivative steel articles described in Annex II to this proclamation from all countries except Argentina, Australia, Brazil, Canada, the member countries of the European Union, Japan, Mexico, and South Korea; (iv) on or after 12:01 a.m. eastern time on June 1, 2022, these rates of duty, which are in addition to any other duties, fees, exactions, and charges applicable to such imported derivative aluminum articles or steel articles, shall apply to imports of derivative aluminum articles described in Annex I to this proclamation from all countries except Argentina, Australia, Canada, the member countries of the European Union, Mexico, and the United Kingdom, and to imports of derivative steel articles described in Annex II to this proclamation from all countries except Argentina, Australia, Brazil, Canada, the member countries of the European Union, Japan, Mexico, South Korea, and the UK, and except from Ukraine through 11:59 p.m. eastern time on June 1, 2023; (v) on or after 12:01 a.m. eastern time on March 10, 2023, these rates of duty, which are in addition to any other duties, fees, exactions, and charges applicable to such imported derivative aluminum articles or steel articles, shall apply to imports of derivative aluminum articles described in Annex I to this proclamation from all countries except Argentina, Australia, Canada, the member countries of the European Union, Mexico, the UK, and Russia, and to imports of derivative steel articles described in Annex II to this proclamation from all countries except Argentina, Australia, Brazil, Canada, the member countries of the European Union, Japan, Mexico, South Korea, and the UK, and except from Ukraine through 11:59 p.m. eastern time on June 1, 2023; (vi) on or after 12:01 a.m. eastern time on June 1, 2023, these rates of duty, which are in addition to any other duties, fees, exactions, and charges applicable to such imported derivative aluminum articles or steel articles, shall apply to imports of derivative aluminum articles described in Annex I to this proclamation from all countries except Argentina, Australia, Canada, the member countries of the European Union, Mexico, the UK, and Russia, and to imports of derivative steel articles described in Annex II to this proclamation from all countries except Argentina, Australia, Brazil, Canada, the member countries of the European Union, Japan, Mexico, South Korea, and the UK, and except from Ukraine in accordance with the relevant proclamation, as amended; and (vii) on or after 12:01 a.m. eastern time on March 12, 2025,a revised 25 percent ad valorem rate of duty, which is in addition to any other duties, fees, exactions, and charges applicable to such imported derivative aluminum articles, shall apply to imports of derivative aluminum articles described in Annex I to this proclamation from all countries except Russia.”

(5) Except as otherwise provided in this proclamation, all imports of derivative aluminum articles specified in Annex I to this proclamation or any subsequent annex published in the Federal Register pursuant to this Proclamation shall be subject to an additional 25 percent ad valorem rate of duty, with respect to goods entered for consumption, or withdrawn from warehouse for consumption, on or after the Commerce certification date in accordance with clause 9. For any derivative aluminum article identified in Annex I that is not in Chapter 76 of the HTSUS, the additional ad valorem duty shall apply only to the aluminum content of the derivative article. These rates of duty, which are in addition to any other duties, fees, exactions, and charges applicable to such imported derivative aluminum articles, shall apply to imports of derivative aluminum articles described in Annex I to this proclamation from all countries, except Russia, but shall not apply to derivative aluminum articles processed in another country from aluminum articles that were smelted and cast in the United States. Further, all imports of derivative aluminum articles specified in Annex I to this proclamation that are the product of Russia and all imports of derivative aluminum articles specified in Annex I to this proclamation where any amount of primary aluminum used in the manufacture of the derivative aluminum articles is smelted in Russia, or the derivative aluminum articles are cast in Russia, shall be subject to the 200 percent ad valorem rate of duty established in Proclamation 10522, with respect to goods entered for consumption, or withdrawn from warehouse for consumption, on or after the Commerce certification date in accordance with clause 9. Primary aluminum is defined as new aluminum metal that is produced from alumina (or aluminum oxide) by the electrolytic Hall-Heroult process. The Secretary shall continue to monitor imports of the derivative articles described in Annex I to this proclamation, and shall, from time to time, in consultation with the United States Trade Representative, the Secretary of Defense, or other officials as appropriate, review the status of such imports with respect to the national security of the United States.

(6) The Secretary shall not consider any new product exclusion requests under clause 3 of Proclamation 9704, clause 1 of Proclamation 9776, or clause 2 of Proclamation 9980, or renew any such product exclusions in effect as of the date of this proclamation. Granted product exclusions shall remain effective until their expiration date or until excluded product volume is imported, whichever occurs first. The Secretary shall take all actions, including publication in the Federal Register, necessary to terminate the product exclusion process. In addition, all general approved exclusions shall be ineffective as of March 12, 2025, and the Secretary shall publish a notice in the Federal Register to this effect. I have determined that this is necessary to ensure that these general exclusions do not allow high volumes of imports, including of products that the domestic industry can produce and supply, to undermine the objectives articulated in the Secretary's January 2018 report and relevant subsequent proclamations. Following the elimination of quantitative restrictions on certain sources pursuant to this proclamation, and subject to any restrictions set forth in or pursuant to other provisions of applicable law, imports of any aluminum article or derivative article from any source and in any quantity will be available to domestic importers, provided that the additional ad valorem tariffs are paid upon entry or withdrawal from warehouse for consumption. For purposes of implementing the requirements in this proclamation, importers of aluminum derivative articles shall provide to CBP any information necessary to identify the aluminum content used in the manufacture of aluminum derivative articles imports covered by this Proclamation. CBP is hereby authorized and directed to publish regulations or guidance implementing this requirement as soon as practicable.

(7) Within 90 days after the date of this proclamation, the Secretary shall establish a process for including additional derivative aluminum articles within the scope of the ad valorem duties proclaimed in Proclamation 9704, as amended, Proclamation 9980, as amended, and clause 5 of this proclamation. In addition to inclusions made by the Secretary, this process shall provide for including additional derivative aluminum articles at the request of a producer of an aluminum article or derivative aluminum article within the United States, or an industry association representing one or more such producers, establishing that imports of a derivative aluminum article have increased in a manner that threatens to impair the national security or otherwise undermine the objectives set forth in the Secretary's January 19, 2018 report or any Proclamation issued pursuant thereto. When the Secretary receives such a request from a domestic producer or industry association, it shall issue a determination regarding whether or not to include the derivative aluminum article or articles within 60 days of receiving the request.

(8) The provisions of clause 3 of Proclamation 9704, clause 1 of Proclamation 9776, and clause 2 of Proclamation 9980, or any other provisions authorizing the Secretary to grant relief for certain products from the additional ad valorem duties or quantitative restrictions set forth in the prior proclamations described herein are hereby revoked, except to the extent required to implement clause 5 of this proclamation.

(9) The modifications made by this proclamation with respect to derivative aluminum articles identified in the annex that are not in chapter 76 of the HTSUS shall be effective upon public notification by the Secretary of Commerce, that adequate systems are in place to fully, efficiently, and expediently process and collect tariff revenue for covered articles.

(10) Any aluminum article or derivative article, except those eligible for admission under “domestic status” as defined in 19 CFR 146.43, that is subject to the duty imposed by this proclamation and that is admitted into a U.S. foreign trade zone on or after the Commerce certification date, in accordance with clause 9, may be admitted only under “privileged foreign status” as defined in 19 CFR 146.41, and will be subject upon entry for consumption to any ad valorem rates of duty related to the classification under the applicable HTSUS subheading.

(11) The United States International Trade Commission, in consultation with the Secretary, the Commissioner of United States Customs and Border Protection (CBP) within the Department of Homeland Security, and the heads of other relevant executive departments and agencies, shall revise the HTSUS so that it conforms to the amendments and effective dates directed in this proclamation within ten days of the date of this proclamation. The Secretary is authorized and directed to publish any such modifications to the HTSUS in the Federal Register.

(12) CBP shall prioritize reviews of the classification of imported aluminum articles and derivative aluminum articles and, in the event that it discovers misclassification resulting in loss of revenue of the ad valorem duties proclaimed herein, it shall assess monetary penalties in the maximum amount permitted by law. In addition, CBP shall promptly notify the Secretary regarding evidence of any efforts to evade payment of the ad valorem duties proclaimed herein through processing or alteration of aluminum articles or derivative aluminum articles as a disguise or artifice prior to importation. In such circumstances, the Secretary shall consider the processed or altered aluminum articles or derivative aluminum articles for inclusion as derivative aluminum articles pursuant to clause 5 of this proclamation.

(13) No drawback shall be available with respect to the duties imposed pursuant to this proclamation.

(14) The Secretary may issue regulations and guidance consistent with this proclamation, including to address operational necessity.

(15) Any provision of a previous proclamation or Executive Order that is inconsistent with the actions taken in this proclamation is superseded to the extent of such inconsistency.

IN WITNESS WHEREOF, I have hereunto set my hand this tenth day of February, in the year of our Lord two thousand twenty-five, and of the Independence of the United States of America the two hundred and forty-ninth.

Billing code 3395-F4-P

[FR Doc. 2025-02832

Filed 2-14-25; 11:15 a.m.]

Billing code 7020-02-C